NUCLEAR REGULATORY COMMISSION

[Docket No. 50-285]

Omaha Public Power District, Fort Calhoun Station, Unit 1; Notice of Issuance of Renewed Facility Operating License No. DPR-40 for an Additional 20-Year Period

Notice is hereby given that the U.S. Nuclear Regulatory Commission (the Commission) has issued Renewed Facility Operating License No. DPR-40 to Omaha Public Power District (the licensee), the operator of the Fort Calhoun Station, Unit 1 (Fort Calhoun, Unit 1). Renewed Facility Operating License No. DPR-40 authorizes operation of Fort Calhoun, Unit 1, by the licensee at reactor core power levels not in excess of 1500 megawatts thermal in accordance with the provisions of the Fort Calhoun, Unit 1, renewed license and its Technical Specifications.

Fort Calhoun, Unit 1, is a pressurized, light water moderated and cooled, nuclear reactor located in Washington County, Nebraska.

The application for the renewed license complied with the standards and requirements of the Atomic Energy Act of 1954, as amended (the Act), and the Commission's regulations. As required by the Act and the Commission's regulations in 10 CFR Chapter 1, the Commission has made appropriate findings, which are set forth in each license. Prior public notice of the action involving the proposed issuance of the renewed license and of an opportunity for a hearing regarding the proposed issuance of the renewed license was published in the Federal Register on April 22, 2002 (67 FR 19599).

For further details with respect to this action, see (1) the Omaha Public Power District's renewal application for Fort Calhoun, Unit 1 dated January 9 and April 5, 2002, as supplemented by letters dated November 22, 2002 (two letters), December 12, 2002, December 19, 2002 (two letters), March 14, 2003, April 4, 2003, May 16, 2003, and July 7, 2003; (2) the Commission's safety evaluation report, dated October, 2003 (NUREG-1782); (3) the licensee's updated safety analysis report; and (4) the Commission's final environmental impact statements (NUREG-1437, Supplement 12, for Fort Calhoun, Unit 1, dated August 15, 2003). These documents are available at the NRC's Public Document Room, One White Flint North, 11555 Rockville Pike, first floor, Rockville, Maryland 20852, and can be viewed from the NRC Public Electronic Reading Room at http://www.nrc.gov/reading-rm/adams.html.

Copies of Renewed Facility Operating License No. DPR-40, may be obtained by writing to the U.S. Nuclear Regulatory Commission, Washington, DC 20555-0001, Attention: Director, Division of Regulatory Improvement Programs. Copies of the safety evaluation report (NUREG-1782), and the final environmental impact statements (NUREG-1437), Supplement 12, for Fort Calhoun, Unit 1 may be purchased from the National Technical Information Service, Springfield, Virginia 22161-0002 (http://www.ntis.gov), 1-800-553-6847, or the Superintendent of Documents, U.S. Government Printing Office, P.O. Box 371954, Pittsburgh, PA 15250-7954 (http://www.access.gpo.gov/su_docs), 202-512-1800. All orders should clearly identify the NRC publication number and the requestor's Government Printing Office deposit account number or VISA or MasterCard number and expiration date.

Dated at Rockville, Maryland, this 4th day of November, 2003.
For the Nuclear Regulatory Commission.
Pao-Tsin Kuo,
Program Director, License Renewal and Environmental Impacts Program, Division of Regulatory Improvement Programs, Office of Nuclear Reactor Regulation, Division of Regulatory Improvement Programs.

[FR Doc. 03-29246 Filed 11-21-03; 8:45 am]

BILLING CODE 7590-01-P